DEPARTMENT OF COMMERCE

International Trade Administration

Renewable Energy and Energy Efficiency Advisory Committee (RE&EEAC)

November 22, 2010.

AGENCY: International Trade Administration, U.S. Department of Commerce.

ACTION: Notice of Open Meeting; Correction.

SUMMARY: The U.S. Department of Commerce published a document in the Federal Register of November 17, 2010 concerning a notification of an open meeting of the Renewable Energy and Energy Efficiency Advisory Committee (RE&EEAC) on December 7, 2010. The document contained an incorrect e-mail address and an incorrect mailing address.

FOR FURTHER INFORMATION CONTACT: Brian O'Hanlon, 202-482-3492.

Correction

In the Federal Register of November 17, 2010, in FR Doc. 75-70214 on page 70214 in the second column, correct the e-mail listed under “FOR FURTHER INFORMATION CONTACT” header to read:

FOR FURTHER INFORMATION CONTACT: Brian O'Hanlon, Office of Energy and Environmental Industries, International Trade Administration, U.S. Department of Commerce at (202) 482-3492; e-mail: brian.ohanlon@trade.gov. This meeting is physically accessible to people with disabilities. Requests for sign language interpretation or other auxiliary aids should be directed to OEEI at (202) 482-5225.

Correction

In the Federal Register of November 17, 2010, in FR Doc. 75-70214 on page 70214 in the third column, correct the address “Public Participation” to read:

Public Participation: The meeting is open to the public and the room is disabled-accessible. Public seating is limited and available on a first-come, first-served basis. Members of the public wishing to attend the meeting must notify Brian O'Hanlon at the contact information above by 5 p.m. EST on Thursday, December 2, in order to pre-register for clearance into the building. Please specify any requests for reasonable accommodation at least five business days in advance of the meeting. Last minute requests will be accepted, but may be impossible to fill. A limited amount of time, from 3 p.m.-3:30 p.m., will be available for pertinent brief oral comments from members of the public attending the meeting.

Any member of the public may submit pertinent written comments concerning the RE&EEAC's affairs at any time before or after the meeting. Comments may be submitted to the Renewable Energy and Energy Efficiency Advisory Committee, C/O: Brian O'Hanlon, Office of Energy and Environmental Technologies, U.S. Department of Commerce, Mail Stop: 4053, 1401 Constitution Avenue, NW., Washington, DC 20230. To be considered during the meeting, written comments must be received no later than 5 p.m. EST on Thursday, December 2, 2010, to ensure transmission to the Committee prior to the meeting. Comments received after that date will be distributed to the members but may not be considered at the meeting.

Edward A. O'Malley,
Director, Office of Energy and Environmental Industries.

[FR Doc. 2010-29882 Filed 11-26-10; 8:45 am]

BILLING CODE 3510-DR-P